DEPARTMENT OF COMMERCE

Foreign-Trade Zones Board

[Order No. 1698]

Reorganization/Expansion of Foreign-Trade Zone 61 San Juan, Puerto Rico, Area

Pursuant to its authority under the Foreign-Trade Zones Act of June 18, 1934, as amended (19 U.S.C. 81a-81u), the Foreign-Trade Zones Board (the Board) adopts the following Order:

Whereas, the Puerto Rico Trade and Export Company, grantee of Foreign-Trade Zone 61, submitted an application to the Board for authority to reorganize and expand its zone to modify Site 1, expand Sites 5 and 10, and add three new sites (proposed Sites 14, 15 and 16) in the San Juan, Puerto Rico, area within and adjacent to the San Juan Customs and Border Protection port of entry (FTZ Docket 52-2009, filed 11/17/09);

Whereas, notice inviting public comment was given in the Federal Register (74 FR 61657, 11/25/09) and the application has been processed pursuant to the FTZ Act and the Board's regulations; and,

Whereas, the Board adopts the findings and recommendations of the examiner's report (including the renumbering of Site 1-Parcel F as Site 17 and of Site 12-Parcel A as Site 18), and finds that the requirements of the FTZ Act and Board's regulations are satisfied, and that the proposal is in the public interest;

Now, therefore, the Board hereby orders:

The application to reorganize and expand FTZ 61 is approved, subject to the FTZ Act and the Board's regulations, including Section 400.28, and to a sunset provision that would terminate authority on June 30, 2015, for Sites 14, 15 and 16 where no activity has occurred under FTZ procedures before that date.

Signed at Washington, DC, this 8th day of July 2010.
Ronald K. Lorentzen,
Deputy Assistant Secretary for Import Administration, Alternate Chairman, Foreign-Trade Zones Board.

[FR Doc. 2010-17536 Filed 7-16-10; 8:45 am]

BILLING CODE 3510-DS-P